DEPARTMENT OF COMMERCE

Foreign-Trade Zones Board

[Order No. 2173]

Establishment of a Foreign-Trade Zone Under the Alternative Site Framework in Clallam County, Washington

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR 400.2(c)) as an option for the establishment or reorganization of zones;

Whereas, the Port of Port Angeles (the Grantee), a Washington public agency, made application to the Board (B-24-2024, docketed May 20, 2024) requesting the establishment of a foreign-trade zone under the ASF with a service area of Clallam County, adjacent to the Port Angeles Customs and Border Protection port of entry, and proposed Sites 1 and 2 would be categorized as magnet sites;

Whereas, notice inviting public comment was given in the Federal Register (89 FR 45820 and 45821, May 24, 2024) and the application was processed pursuant to the FTZ Act and the Board's regulations; and,

Whereas, the Board adopted the findings and recommendations of the examiners' report, and found that the requirements of the FTZ Act and the Board's regulations are satisfied;

Therefore, on January 10, 2025, the Board granted to the Port of Port Angeles the privilege of establishing a foreign-trade zone, designated on the records of the Board as Foreign-Trade Zone No. 303, as described in the application, and subject to the FTZ Act and the Board's regulations, including section 400.13, to the Board's standard 2,000-acre activation limit, and to an ASF sunset provision for magnet sites that would terminate authority for Site 2 if not activated within five years from the month of approval.

Dated: January 14, 2025.
Dawn Shackleford,
Executive Director of Trade Agreements Policy & Negotiations, Alternate Chairman, Foreign-Trade Zones Board.

[FR Doc. 2025-01132 Filed 1-16-25; 8:45 am]

BILLING CODE 3510-DS-P